DEPARTMENT OF AGRICULTURE

Forest Service

Helena National Forest, Montana, Snow Talon Fire Salvage; Intent To Prepare an Environmental Impact Statement

AGENCY: Forest Service, USDA.

ACTION: Notice of intent to prepare an environmental impact statement.

SUMMARY: The USDA, Forest Service, will prepare an Environmental Impact Statement (EIS) for the Snow Talon Fire Salvage. The Snow Talon Fire Salvage EIS will disclose the environmental effects of a salvage harvest of trees burned in the Snow Talon Fire on the Lincoln Ranger District of the Helena National Forest. The 2003 Snow Talon Fire burned 37,706 acres in the Copper Creek, Landers Fork, and Falls Creek drainages, approximately 10 miles northeast of Lincoln, Montana. The proposed action includes commercial harvest of approximately 20 to 25 million board feet of trees over 2700 acres in the wildfire area, roadwork to meet Best Management Practices (BMP) standards, and rehabilitation of 105 acres of jammer trails. Harvest is not proposed within Inventoried Roadless Areas (IRAs), Riparian Habitat Conservation Areas (RHCAs), or Research Natural Areas (RNAs). An EIS will be prepared displaying alternatives and the anticipated effects of the above activities to the resources and human uses of the analysis area.

DATES: Comments concerning the scope of the analysis must be postmarked by January 15, 2004. The draft EIS is expected March 2004 and the final EIS is expected June 2004.

ADDRESSES AND FOR FURTHER INFORMATION CONTACT: For further information, to be placed on the project mailing list, or to provide comment addressing this proposed action, please e-mail, call, or mail correspondence to Dan Seifert—Snow Talon Fire Salvage Interdisciplinary Team Leader, Lincoln Ranger District, 1569 Highway 200, Lincoln, MT 59639; phone number is (406) 362-4265; e-mail address is dseifert@fs.fed.us.

SUPPLEMENTARY INFORMATION:

Background Information

During August and September of 2003, the Snow Talon Fire burned 37,706 acres, with 34,362 of these acres on National Forest Lands. Approximately 26,500 acres burned with high severity (as defined in the USFS Burned Area Emergency Response Handbook FSH 2509.13, Amendment No. 2509.13-95-7).

Purpose and Need for Action

The purpose of this project is to salvage timber in response to the Snow Talon Fire. The immediate need is to recover the value of the burned commercial timber products before they decay and have no commercial viability (Helena National Forest Land and Resource Plan [Forest Plan] II-1, Goal #11 and Goal #16). The proposed commercial timber salvage harvest would provide economic opportunities for rural communities and is consistent with Forest Plan goals to provide a sustained timber yield that is responsive to local industry and national needs (Forest Plan Forest-Wide Goal #11). Management Area direction for the majority of the proposed for harvest areas designates goals emphasizing cost-effective timber production while protecting the soil productivity (Forest Plan Management Areas T-1, T-3, T-4). While some of the actions proposed will help restore resources affected by the fire, the intent of including these actions with this salvage harvest project is to mitigate for the effects of salvage activities. Jammer trail reclamation is included in the proposed action to mitigate for the overall effects of salvage activities to soils. It is not the intent of this project to fully address all the effects of the Snow Talon Fire. Currently, a restoration team is addressing long-term restoration needs through a variety of other projects.

Proposed Action

The Helena National Forest proposes to harvest 20 to 25 million board feet of commercial timber over approximately 2700 acres. The following yarding methods, by percentage of proposed harvest acreage, would be utilized: 55% helicopter, 20% skyline, 25% tractor. To facilitate harvest, approximately ½ mile of temporary roads and 30 helicopter landing areas are proposed and would be rehabilitated following harvest. Two temporary bridges would also be needed, and would be removed following harvest and rehabilitation activities. Only dead or dying trees would be removed; however, a few green trees may have to be cut to meet safety requirements in helicopter landing areas and skyline corridors. To minimize impacts to burned soils, the proposed action specifies that all tractor and skyline logging would occur under winter conditions (either 4 inches of frozen soil and/or 6 inches of packed snow). Reclamation of 105 acres of jammer trails originally constructed for logging in the 1960s is included in the proposed action to mitigate for harvest activities by improving soil quality. BMPs that promote long-term water quality, maintain existing road systems, and minimize erosion are also proposed. BMP activities would include, but not be limited to, improving road drainage features, installing and replacing ditch-relief culverts, gravelling portions of the road system, re-vegetation, and other practices to minimize erosion. The proposed action does not include timber harvest or temporary road construction in IRAs, RNAs, or RHCAs.

Responsible Official

Thomas J. Clifford, Forest Supervisor—2880 Skyway Drive, Helena, MT 59602.

Nature of Decision To Be Made

The decision framework refers to the scope of the decision that will be issued at the conclusion of this analysis by the responsible official. The responsible official's decision will be based on information disclosed in the environmental document, information contained in the Project Analysis File, comments submitted during the scoping of the proposed action and the comment period, comment responses, and applicable laws, regulations, and policies in making the decision and stating the rationale in the Record of Decision.

The responsible official may decide whether or not to

• Select the proposed action,

• Select an alternative to the proposed action, or

• Select portions from the developed range of alternatives and combine them in a logical package.

In selecting one of the above options, the terms and conditions of the selection will be fully displayed and understood. Within the parameters of this decision space, it will also be determined if a Helena Land and Resource Management Plan amendment would be necessary. The responsible official will take into consideration relationships of alternatives to the identified significant issues.

Scoping Process

Proposed Action scoping period—Scoping begins the day this notice is published in the Federal Register and ends January 15, 2004. A scoping document will be mailed to Federal, State, and local agencies, tribal governements, and other individuals or organizations who may be interested in or affected by the proposed project. The scoping document will also be posted on the Helena National Forest Web site on the Internet at http://www.fs.fed.us/r1/helena/. A public open-house scoping meeting is tentatively scheduled from 4:30 to 6:30 p.m., December 17, 2003 in Lincoln, Montana. Draft Environmental Impact Statement release, 45-day comment period and public meetings—begins in March 2004.

Final Environmental Impact Statement and Record of Decision—June 2004.

Preliminary Issues

The Snow Talon Interdisciplinary Team has identified the following preliminary issues to be addressed in the EIS:

• Copper Creek is the most heavily used yearlong recreational areas on the Lincoln Ranger District, both for non-commercial and permitted commercial recreational activities. Public safety concerns may necessitate delays and/or temporary closures of portions of the Copper Creek drainage to public use when proposed activities are occurring.

• The analysis area provides habitat for the grizzly bear and lynx, which are both species listed as threatened under the Endangered Species Act. The analysis area is within the Northern Continental Divide Ecosystem grizzly bear recovery area.

• Copper Creek provides critical spawning habitat for upper Blackfoot River fluvial bull trout, a species listed as threatened under the Endangered Species Act.

• Other animal and plant species listed as sensitive by the U.S. Forest Service and the State of Montana are known to be present in the Copper Creek area.

Possible Alternatives

Alternatives being considered at this time are this proposed action and the no action alternative (not to conduct a salvage harvest).

Permits or Licenses Required

In order to proceed, the proposed action may require the following permits:

• State of Montana Floodplain Development Permit.

• Short-Term Exemption from Montana's Surface Water Quality Standard (3A Authorization).

• State of Montana Stream Protection Act 124 Permit.

• Federal Clean Water Act Section 404 Permit.

Comment Requested

This notice of intent initiates the scoping process which guides the development of the EIS. Scoping comments addressing this proposed action are due to the Forest Service by January 15, 2004. Concerns or issues should display points of dispute or debate relevant to the proposed action. Identifying significant issues is key in the process of developing alternatives.

Early Notice of Importance of Public Participation in Subsequent Environmental Review: A draft EIS will be prepared for comment. The 45-day comment period on the draft EIS will begin in March 2004 from the date the Environmental Protection Agency publishes the notice of availability in the Federal Register.

The Forest Service believes, at this early stage, it is important to give reviewers notice of several court rulings related to public participation in the environmental review process. First, reviewers of draft EISs must structure their participation in the environmental review of the proposal so that it is meaningful and alerts an agency to the reviewer's position and contentions, Vermont Yankee Nuclear Power Corp. v. NRDC, 435 U.S. 519, 553 (1978). Also, environmental objections that could be raised at the draft EIS stage but that are not raised until after completion of the final EIS may be waived or dismissed by the courts, City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day DEIS comment period so that substantive comments and objections are made available at a time when the Forest Service can meaningfully consider and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 Code of Federal Regulations (CFR) 1503.3 in addressing these points.

Comments received, including the names and addresses of those who comment, will be considered part of the public record on this proposal and will be available for public inspection.

(Authority: 40 CFR 1501.7 and 1508.22; Forest Service Handbook 1909.15, Section 21).

Dated: November 25, 2003.
Thomas J. Clifford,
Forest Supervisor.

[FR Doc. 03-29909 Filed 12-1-03; 8:45 am]

BILLING CODE 3410-11-P